DEPARTMENT OF THE INTERIOR

Bureau of Land Management

[OR-090-5882-PH-EE01; HAG 06-0134]

Meeting Notice for the Eugene District, Bureau of Land Management (BLM) Resource Advisory Committees Under Section 205 of the Secure Rural Schools and Community Self Determination Act of 2000, Public Law 106-393

AGENCY: Bureau of Land Management.

SUMMARY: This notice is published in accordance with section 10(a)(2) of the Federal Advisory Committee Act. Meeting notice is hereby given for the Eugene District BLM Resource Advisory Committee pursuant to section 205 of the Secure Rural Schools and Community Self Determination Act of 2000. Topics to be discussed by the Eugene BLM District Resource Advisory Committee include selection of a chairperson, public forum and proposed projects for funding in Fiscal Year 2007.

DATES: The Eugene BLM District Resource Advisory Committee will meet on the following dates: The Eugene BLM District Resource Advisory Committee will meet at the BLM Eugene District Office, 2890 Chad Drive, Eugene, Oregon 97440, 9 a.m. to 4:30 p.m., on July 13, 2006 and 9 a.m. to 4:30 p.m., on July 14, 2005, 9:00 a.m. to 4:30 p.m., on August 17, 2006 and 9 a.m. to 4:30 p.m., on August 18, 2005. The public forum will be held from 12:30-1 p.m. on all four days.

SUPPLEMENTARY INFORMATION: Pursuant to the Secure Rural Schools and Community Self Determination Act of 2000, five Resource Advisory Committees have been formed for western Oregon BLM districts that contain Oregon & California (O&C) Grant Lands and Coos Bay Wagon Road lands. The Secure Rural Schools and Community Self Determination Act of 2000 establishes a six-year payment schedule to local counties in lieu of funds derived from the harvest of timber on Federal lands, which have dropped dramatically over the past 10 years.

The Secure Rural Schools and Community Self Determination Act of 2000 creates a new mechanism for local community collaboration with Federal land management activities in the selection of projects to be conducted on Federal lands or that will benefit resources on Federal lands using funds under Title II of the Secure Rural Schools and Community Self Determination Act of 2000. The Eugene BLM District Resource Advisory Committees consist of 15 local citizens (plus six alternates) representing a wide array of interests.

FOR FURTHER INFORMATION CONTACT: Additional information concerning the BLM Resource Advisory Committees may be obtained from Wayne Elliott, Designated Federal Official, Eugene District Office, P.O. Box 10226, Eugene, Oregon 97440, (541) 683-6600, or wayne_elliott@or.blm.gov.

Dated: May 22, 2006.
Mark Buckbee,
Acting Eugene District Manager.

[FR Doc. E6-8230 Filed 5-26-06; 8:45 am]

BILLING CODE 4310-33-P